DEPARTMENT OF LABOR

Employment and Training Administration

[TA-W-65,469]

The Hershey Company, Hershey, PA; Notice of Termination of Investigation

Pursuant to Section 221 of the Trade Act of 1974, as amended, an investigation was initiated on March 4, 2009 in response to a petition filed on behalf of workers at The Hershey Company, Hershey, Pennsylvania. The workers at the subject facility produce candy.

The petitioners have requested that the petition be withdrawn. Consequently, the investigation has been terminated.

Signed in Washington, DC, this 28th day of April 2009.
Richard Church,
Certifying Officer, Division of Trade Adjustment Assistance.

[FR Doc. E9-11855 Filed 5-20-09; 8:45 am]

BILLING CODE 4510-FN-P